NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 14, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Rural Development (N1-221-08-1, 22 items, 15 temporary items). Records relating to a program which provides grants and loans for rural telecommunications projects. Proposed for permanent retention are special studies and reports, loan docket files and supporting data, records of technical standards committees, and records relating to approved grants.

2. Department of the Army, Agency-wide (N1-AU-08-1, 3 items, 2 temporary items). Master file and standard reports associated with an electronic information system used to report sexual assault and prevention data. Data includes information on the victim and perpetrator, nature of the incident, actions taken, and final results. Proposed for permanent retention are annual reports on sexual assaults.

3. Department of Energy, Agency-wide (N1-434-08-2, 2 items, 1 temporary item). Research and professional files of researchers who have held a range of positions or have been a recognized expert in cross-disciplinary work. Proposed for permanent retention are files of researchers who have achieved national or international prominence in their career.

4. Department of Homeland Security, Office for Civil Rights and Civil Liberties (N1-563-07-6, 6 items, 4 temporary items). Records tracking allegations of racial, ethnic, and religious profiling by employees and officials of the agency. Proposed for permanent retention are records associated with significant cases.

5. Department of the Interior, National Park Service (N1-79-07-2, 15 items, 7 temporary items). Records related to the implementation and administration of the Native American Graves Protection and Repatriation Act national program. Proposed for permanent retention are case files, advisory committee records, awarded grant files, program records, and associated indexes.

6. Department of the Navy, Agency-wide (N1-NU-07-10, 1 item, 1 temporary item). Personnel rosters, listings, cards, indexes and similar records maintained by preparing units.

7. Department of State, Foreign Service Institute (N1-59-08-7, 8 items, 8 temporary items). Records relating to registration for internal and external training, including course information, management reports, course schedules, and travel records.

8. Department of the Treasury, Internal Revenue Service (N1-58-08-10, 3 items, 3 temporary items). Master file, outputs, and system documentation for the Enterprise Data Access Strategy—Integrated Production Model, which consists of data used in modernization projects.

9. Federal Communications Commission, Office of the Inspector General (N1-173-07-2, 8 items, 5 temporary items). Non-significant investigative files, allegations that do not relate to a specific investigation, audits, strategic plans, and general correspondence. Proposed for permanent retention are significant investigative files, semi-annual reports, and annual audit plans. The proposed disposition instructions are limited to paper records for significant investigative files, semi-annual reports, and annual audit plans.

10. National Archives and Records Administration, Office of Records Services—Washington, DC (N1-64-08-2, 5 items, 5 temporary items). Data, audit logs, user profiles, and system documentation of the Accessions Management Information System used to track information about accessions of electronic records.

11. National Archives and Records Administration, Office of Records Services—Washington, DC (N1-64-08-03, 5 items, 5 temporary items). Data, audit logs, user profiles, and system documentation used in the verification of format and structure of data submitted by agencies for accession through the Archival Electronic Records Inspection and Control System.

12. National Archives and Records Administration, Office of Records Services—Washington, DC (N1-64-08-4, 4 items, 4 temporary items). System usage and performance reports, system audit logs, user profiles, and system documentation associated with the Access to Archival Databases System, which provides web access to selected accessioned electronic records, including databases, images and texts.

13. National Archives and Records Administration, Office of Records Services—Washington, DC (N1-64-08-5, 4 items, 4 temporary items). Data files, system audit logs, custom developed source code, and system documentation associated with the Archival Processing System, which maintains metadata related to the agency's holdings of electronic records such as recording characteristics, preservation master and backup copy management, technical file specifications, tape location management, media recopy and refresh scheduling, and reference requests.

14. Peace Corps, Office of Management (N1-490-08-1, 1 item, 1 temporary item). Master file of an electronic information system used to record volunteers' foreign language test scores.

15. United States Information Agency, Broadcasting Service (N1-306-97-2, 28 items, 16 temporary items). Subject files that are duplicative or are lacking historical significance, travel vouchers, and requests for information. Proposed for permanent retention are records of subject, country, program, and other files that document programs and policies. The proposed disposition instructions are limited to paper records.

Dated: April 7, 2008.
Michael J. Kurtz,
Assistant Archivist for Records Services—Washington, DC.

[FR Doc. E8-7867 Filed 4-11-08; 8:45 am]

BILLING CODE 7515-01-P